FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 20, 2012.

A. Federal Reserve Bank of Chicago (Colette A. Fried, Assistant Vice President) 230 South LaSalle Street, Chicago, Illinois 60690-1414:

1. Charles M. Shea, Wilmette, Illinois, as committee member of the Jerry C. Bradshaw Family Trust—GST Non-Exempt Trust and the Jerry C. Bradshaw Family Trust—GST Exempt Trust; Molly Boed, Wassenaar, Netherlands, as committee member of the Jerry C. Bradshaw Family Trust—GST Non-Exempt Trust and the Jerry C. Bradshaw Family Trust—GST Exempt Trust; Betty J. Bradshaw, Wheaton, Illinois, as committee member of the Jerry C. Bradshaw Family Trust—GST Non-Exempt Trust and the Jerry C. Bradshaw Family Trust—GST Exempt Trust, and JPMorgan Chase Bank, N.A., Naperville, Illinois, as Trustee of the Jerry C. Bradshaw Family Trust—GST Non-Exempt Trust and the Jerry C. Bradshaw Family Trust—GST Exempt Trust; to retain voting shares of Marseilles Bancorporation, Inc., and thereby indirectly retain voting shares of Marseilles Bank, both of Marseilles, Illinois.

B. Federal Reserve Bank of St. Louis (Yvonne Sparks, Community Development Officer) P.O. Box 442, St. Louis, Missouri 63166-2034:

1. R. Forest Taylor and Zora Taylor, both of Morgantown, Kentucky, as the largest individual shareholders, and in concert with their immediate family members (Sue Ann Bond, Louisville, Kentucky; Patty Jo Murphy, Alvaton, Kentucky; Callie Jo Cromer, New Orleans, Louisiana; Amanda Kay Johnson, Spring Hill, Tennessee; Emily Ann Romans, Russellville, Kentucky; Robert Daniel Taylor, and Sharon Kay Taylor, both of Morgantown, Kentucky); to acquire voting shares of Morgantown Deposit Bancorp, Inc., and thereby indirectly acquire voting shares of Morgantown Bank & Trust Company Inc., both in Morgantown, Kentucky.

C. Federal Reserve Bank of Kansas City (Dennis Denney, Assistant Vice President) 1 Memorial Drive, Kansas City, Missouri 64198-0001:

1. Gentner Drummond and Wendy Drummond, both of Tulsa, Oklahoma; and Jonathan Drummond, Stillwater, Oklahoma; as a group acting in concert to acquire voting shares of Cache Holdings, Inc., and thereby indirectly acquire voting shares of Patriot Bank, both in Broken Arrow, Oklahoma.

Board of Governors of the Federal Reserve System, October 31, 2012.
Michael J. Lewandowski,
Assistant Secretary of the Board.

[FR Doc. 2012-26931 Filed 11-2-12; 8:45 am]

BILLING CODE 6210-01-P